DEPARTMENT OF THE INTERIOR

Bureau of Land Management

[CA-0680-7123-MA-6763]

Prohibition of Use of Firewood Containing Nails, Screws, and Other Metal Hardware Within the Boundaries of the El Mirage Cooperative Management Area; and Rasor, Johnson Valley, Stoddard Valley, and the Dumont Dunes OHV Recreation Areas, San Bernardino County, CA

AGENCY: Bureau of Land Management, (BLM) Interior.

ACTION: Notice of the implementation of a supplementary rule banning the use of firewood containing nails, screws, and other metal hardware upon the public lands within the El Mirage Cooperative Management Area; and Rasor, Johnson Valley, Stoddard Valley, and the Dumont Dunes OHV Recreation Areas, San Bernardino County, California.

SUMMARY: Order: A supplementary rule will take effect that will ban the use of firewood containing nails, screws, and other metal hardware in the El Mirage Cooperative Management Area; and Rasor, Johnson Valley, Stoddard Valley, and the Dumont Dunes OHV Recreation Areas. The supplementary rule will be cited under 43 CFR 8365.1-6, Visitors Services, Rules of Conduct, Supplementary Rules. The text of these rules follows:

1. Ban on Firewood Containing Nails, Screws, and Other Metal Hardware Within the El Mirage Cooperative Management Area; and Rasor, Johnson Valley, Stoddard Valley, and the Dumont Dunes OHV Recreation Areas.

(a) Due to an ongoing problem with nails, screws, and other metal hardware from pallets and construction lumber causing damage to vehicle tires and a safety problem for the visitors to the El Mirage Cooperative Management Area; and Rasor, Johnson Valley, Stoddard Valley, and the Dumont Dunes OHV Recreation Areas, there is a demonstrated need for the removal of firewood containing nails, screws, and other metal hardware and elimination of their use within the management areas.

(b) Upon the Public Lands within the established boundaries of the El Mirage Cooperative Management Area; and Rasor, Johnson Valley, Stoddard Valley, and the Dumont Dunes OHV Recreation Areas, no person shall bring in, dispose of or possess any firewood containing nails, screws, and other metal hardware.

Background: The purpose of this supplementary rule is to protect visitors to the El Mirage Cooperative Management Area; and Rasor, Johnson Valley, Stoddard Valley, and the Dumont Dunes OHV Recreation Areas from serious injury to themselves as well as damage to their vehicle's tires as a result of discarded nails, screws, and other metal hardware from firewood.

At this time, nails, screws, and other metal hardware are evident in areas of concentrated use and around high traffic areas. This regularly results in tire damage to visitor's vehicles and to Bureau patrol vehicles. Falling or stepping on nails, screws, or other metal hardware continues to be a hazard to campers who prefer to utilize well used camping areas.

EFFECTIVE DATE: This rule will take effect on the date of June 1, 2001.

FOR FURTHER INFORMATION CONTACT: Barry Nelson, Chief Ranger, Bureau of Land Management, 2601 Barstow Road, Barstow, California 92311; or call (760) 252-6070.

SUPPLEMENTARY INFORMATION: Area maps, Management Area brochures, and copies of the Management Plans are available by contacting the above personnel.

Authority for this supplemental rule is found in 43 CFR 8365.1-6. Violation of this rule is punishable by a fine not to exceed $100,000/or imprisonment not to exceed 12 months.

Dated: May 9, 2001.
Mike Pool,
California State Director.

[FR Doc. 01-13557 Filed 5-29-01; 8:45 am]

BILLING CODE 4310-40-P